DEPARTMENT OF COMMERCE

International Trade Administration

Notice of Scope Rulings

AGENCY: Import Administration, International Trade Administration, Department of Commerce.

ACTION: Notice of Scope Rulings and Anticircumvention Inquiries.

EFFECTIVE DATE: July 7, 2000.

SUMMARY: The Department of Commerce (the Department) hereby publishes a list of scope rulings completed between October 1, 1998 and March 31, 2000. In conjunction with this list, the Department is also publishing a list of requests for scope determinations pending as of March 31, 2000. We intend to publish future lists within 30 days of the end of each quarter.

FOR FURTHER INFORMATION CONTACT: Jonathan Lyons or Robert James, Import Administration, International Trade Administration, U.S. Department of Commerce, 14th Street and Constitution Avenue NW, Washington, DC 20230; telephone (202) 482-0374 or (202) 482-0649.

Background

The Department's regulations provide that, on a quarterly basis, the Secretary will publish in the Federal Register a list of scope rulings completed within the last three months. See 19 CFR 351.225(o).

This notice covers all scope rulings and anticircumvention determinations completed by Import Administration between October 1, 1998 and March 31, 2000, inclusive. It also lists any scope or anticircumvention inquiries pending as of March 31, 2000. The Department intends to publish in July 2000 a list of all completed and pending scope and anticircumvention inquiries for the period April 1, 2000 and June 30, 2000; subsequent lists will follow in the month after the close of each calendar quarter.

Scope Rulings Completed Between October 1, 1998 and March 31, 2000

Belgium

A-423-805, C-423-806 Cut-To-Length Carbon Steel Plate; Duferco Steel Inc.; certain hot-rolled floor plate is within the scope; November 22, 1999.

Canada

C-122-805 New Steel Rail Except Light Rail; L.B. Foster Company; certain steel rail containing radial streaking is within the scope; July 22, 1999.

A-122-823 Certain Cut-to-Length Carbon Steel Plate; Clayson Steel, Inc.; certain dockleveler platforms are within the scope; December 13, 1999.

Chile

A-357-804 Certain Preserved Mushrooms; Coalition for Fair Preserved Mushroom Trade; retorted preserved mushrooms produced in third countries from provisionally preserved mushrooms produced in Chile are within the scope; July 13, 1999.

Germany

A-428-801 Antifriction Bearings (Other Than Tapered Roller Bearings) and Parts Thereof; Holland Hitch, Inc.; “Turntable bearings” (slewing rings, gearless slewing rings, or slewing bearings) are outside the scope; February 26, 1999.

A-428-816, C-428-817 Cut-to-Length Carbon Steel Plate; Novosteel, SA; profile slabs produced by Reiner Brach, GmbH, and Co., and sold by Novosteel SA are within the scope; May 18, 1999.

A-428-820 Small Diameter Circular Seamless Carbon and Alloy Steel Standard, Line and Pressure Pipe; Chicago P.P.L., Inc.; tubing with circular cross-section and outside diameter that varies from 0.05mm to 25 mm is outside the scope; June 25, 1999.

India

A-533-806, C-533-806 Sulfanilic Acid; 3V Corporation; sodium sulfanilate processed in Italy from sulfanilic acid produced in India is within the scope; May 5, 1999.

Italy

A-475-818, C-475-819 Certain Pasta; self-initiated by the Department; pasta in packages weighing (or labeled as weighing) up to and including five pounds, four ounces is within the scope; May 24, 1999.

Japan

A-588-802 3½-Inch Microdisks and Coated Media Therefor; TDK Electronics Corp. (TKD); TDK's Ultra High-density disk is outside the scope; January 21, 1999.

A-588-804 Antifriction Bearings (Other Than Tapered Roller Bearings) and Parts Thereof; Nissei Sangyo America, Ltd.; a certain vacuum nozzle assembly, designated as part number 630-063-2316 is outside the scope; January 19, 1999.

A-588-804 Antifriction Bearings (Other Than Tapered Roller Bearings) and Parts Thereof; Sanden International (USA); certain orbiting and fixed races, and orbiting and fixed rings, used in a “rotation prevention device” in scroll compressors are outside the scope; December 14, 1999; see also 65 FR 18033, April 6, 2000.

A-588-804 Antifriction Bearings (Other Than Tapered Roller Bearings) and Parts Thereof; Isuzu Motors America, Inc.; fan center assembly, designated as part number 8-97226-2892, imported by Isuzu for primary use as a production part of a V-8 diesel engine is outside the scope; March 13, 2000; see also 65 FR 18033, April 6, 2000.

A-588-824 Corrosion-Resistant Carbon Steel Flat Products; Taiho Corporation of America; steel coil with aluminum lining is within scope; March 15, 1999.

A-588-824 Corrosion-Resistant Carbon Steel Flat Products; Uchiyama America, Inc.; steel flat products of specific dimensions and with specific zinc-cobalt-molybdenum coatings imported by Uchiyama are outside the scope (see the Department's Final Scope Ruling for a full description of the specific products at issue); March 29, 1999.

A-588-846 Certain Hot-Rolled, Flat-Rolled Carbon-Quality Steel Products; Mitsubishi International Steel, Inc.; cold-reduced steel sheets in coils exported from El Salvador are outside of the scope; April 24, 2000.

Mexico

A-201-805 Certain Circular Welded Non-Alloy Steel Pipe; Galvak, S.A. de C.V.; circular welded non-alloy steel pipe manufactured to ASTM A-787 specifications is within the scope; November 19, 1998.

People's Republic of China

A-570-504 Petroleum Wax Candles; Costco Wholesale; candles containing 81 percent beeswax and 19 percent petroleum wax are outside of the scope; December 10, 1998.

A-570-504 Petroleum Wax Candles; Et Al Imports, Inc.; candles containing 80 percent beeswax and 20 percent petroleum wax are outside of the scope; December 11, 1998.

A-570-504 Petroleum Wax Candles; Target Stores; citronella candle for outdoor use is outside of the scope; December 15, 1998.

A-570-504 Petroleum Wax Candles; Boston Warehouse; citronella candle for outdoor use is outside of the scope; December 18, 1998.

A-570-504 Petroleum Wax Candles; Ocean State Jobbers; candles consisting of 80 percent beeswax and 20 percent petroleum wax are outside of the scope; December 18, 1998.

A-570-504 Petroleum Wax Candles; Endar Corp.; floating round candles are within the scope; December 24, 1998.

A-570-504 Petroleum Wax Candles; Meijer, Inc.; wax-filled porcelain bunny is a wax filled container within the scope of the order; January 6, 1999.

A-570-504 Petroleum Wax Candles; Endar Corp.; 5-inch gold pillar candle is within the scope; six candles (red holiday floating candle, purple eight-points floating “puck” candle, white frosty snowball candle, 3-inch gold pine cone candle, white Christmas star candle, and green Christmas tree ball ornament candle) are outside the scope; April 7, 1999.

A-570-504 Petroleum Wax Candles; Meijer, Inc.; three Halloween figure tapers are outside the scope; October 14, 1999.

A-570-506 Porcelain-on-Steel Cookware; Tristar Products; grill set with aluminum grill plate is outside the scope; March 8, 2000.

A-570-832 Pure Magnesium; Rossborough Manufacturing Company, LP; AZ10A magnesium is off-specification pure magnesium within the scope; July 22, 1999.

A-570-840; Manganese Metal; Kerr-McGee Chemical, LLC; manganese-aluminum briquettes are outside the scope; January 7, 2000.

A-570-850 Collated Roofing Nails; Stanley Bostich Fastener Division of Stanley Works, Inc.; stainless steel collated roofing nails are outside the scope; September 2, 1999.

Taiwan

A-583-826 Collated Roofing Nails; Stanley Bostich Fastener Division of Stanley Works, Inc.; stainless steel collated roofing nails are outside the scope; September 2, 1999.

Turkey

A-489-805, C-489-806 Certain Pasta; self-initiated by the Department; pasta in packages weighing (or labeled as weighing) up to and including five pounds, four ounces is within the scope; May 24, 1999.

Anticircumvention Determinations Completed Between October 1, 1998 and March 31, 2000

Germany

A-428-811, C-428-812 Certain Hot-Rolled Lead and Bismuth Carbon Steel Products; imports of leaded steel billets which are subsequently converted into certain hot-rolled lead and bismuth carbon steel products subject to the order are not circumventing the order; July 26, 1999.

Italy

A-475-818 Certain Pasta; imports of bulk (i.e., greater than five pounds) pasta by Barilla, S.r.L., which are subsequently repackaged into packages of five pounds or less, are circumventing the order; October 13, 1998.

United Kingdom

A-412-810, C-412-811 Certain Hot-Rolled Lead and Bismuth Carbon Steel Products; imports of leaded steel billets which are subsequently converted into certain hot-rolled lead and bismuth carbon steel products subject to the order are not circumventing the order; July 26, 1999.

Scope Inquiries Terminated Between October 1, 1998 and March 31, 2000

Australia

A-603-803 Corrosion-Resistant Carbon Steel Flat Products; Taiho Corporation of America; whether steel coil clad with polytetraflourethylene/lead-based lining is outside the scope. Taiho Corporation withdrew its request for inquiry. Terminated December 1, 1999.

Canada

A-122-822 Corrosion-Resistant Carbon Steel Flat Products; Taiho Corporation of America; whether steel coil clad with polytetraflourethylene/lead-based lining is outside the scope. Taiho Corporation withdrew its request for inquiry. Terminated December 1, 1999.

France

A-427-808, C-427-810 Corrosion-Resistant Carbon Steel Flat Products; Taiho Corporation of America; whether steel coil clad with polytetraflourethylene/lead-based lining is outside the scope. Taiho Corporation withdrew its request for inquiry. Terminated December 1, 1999.

Germany

A-428-815, C-428-817 Corrosion-Resistant Carbon Steel Flat Products; Taiho Corporation of America; whether steel coil clad with polytetraflourethylene/lead-based lining is outside the scope. Taiho Corporation withdrew its request for inquiry. Terminated December 1, 1999.

Japan

A-588-824 Corrosion-Resistant Carbon Steel Flat Products; Taiho Corporation of America; whether steel coil clad with polytetraflourethylene/lead-based lining is outside the scope. Taiho Corporation withdrew its request for inquiry. Terminated December 1, 1999.

Republic of Korea

A-480-816, C-580-818 Corrosion-Resistant Carbon Steel Flat Products; Taiho Corporation of America; whether steel coil clad with polytetraflourethylene/lead-based lining is outside the scope. Taiho Corporation withdrew its request for inquiry. Terminated December 1, 1999.

Anticircumvention Inquiries Terminated Between October 1, 1998 and March 31, 2000

Mexico

A-201-805 Certain Circular Welded Non-Alloy Steel Pipe; whether imports of pipe certified to API 5L line pipe specifications, or pipe dual-certified to both the API 5L and ASTM A-53 specifications, are circumventing the order. Preliminary affirmative determination released December 19, 1997. Department permanently enjoined from completing inquiry in Hylsa, S.A. de C.V. v. United States, Slip Op. 98-80 (CIT 1998); appeal withdrawn on January 19, 1999. Anticircumvention inquiry terminated August 12, 1999.

Scope Inquiries Pending as of March 31, 2000

Germany

A-428-821 Large Newspaper Printing Presses and Components Thereof, Whether Assembled or Unassembled (LNPP); KBA North America Inc., Web Press Division; various LNPP parts or subcomponents imported for the production of an LNPP system sold to Dayton Newspapers, Inc. were found preliminarily to be outside the scope on December 22, 1997, January 27, 1998, June 17, 1998, and August 4, 1998. Final decisions pending.

A-428-821 Large Newspaper Printing Presses and Components Thereof, Whether Assembled or Unassembled (LNPP); KBA North America Inc., Web Press Division; various LNPP parts or subcomponents imported for the production of an LNPP system sold to the Fayetteville Publishing Company were found preliminarily to be outside the scope on December 30, 1998, January 14, 1999, and February 1, 1999. Final decisions pending.

India

A-533-808 Certain Stainless Steel Wire Rod; Ishar Bright Steel, Ltd.; whether stainless steel bar produced in the United Arab Emirates from stainless wire rod imported from India is within the scope. Requested December 22, 1998.

Italy

A-475-059 Pressure-Sensitive Plastic Tape; CCL Industries LLC, d.b.a. CST Special Tapes; whether “surface protection tape” is covered by the scope of the order. Requested January 28, 2000.

A-475-820, C-475-821 Stainless Steel Wire Rod; Ishar Bright Steel, Ltd.; whether stainless steel bar produced in the United Arab Emirates from stainless steel wire rod imported from Italy is within the scope. Requested December 22, 1998.

Japan

A-588-804 Antifriction Bearings (Other Than Tapered Roller Bearings) and Parts Thereof; NTN Bearing Corporation of America; whether the “EM coupling” and ring plates used in scroll compressors for automotive air conditioners are antifriction bearing parts covered by the order. Received March 16, 2000.

A-588-804 Antifriction Bearings (Other Than Tapered Roller Bearings) and Parts Thereof; NTN Corporation of America; whether certain ball rolling elements used in scroll compressors for automotive air conditioners are antifriction bearing parts covered by the order. Received March 16, 2000.

A-588-804 Antifriction Bearings (Other Than Tapered Roller Bearings) and Parts Thereof and Cylindrical Roller Bearings and Parts Thereof; Subaru-Isuzu Automotive, Inc. (SIA); whether fan bracket assembly, identified as Isuzu part number 8971486750 (prior to October 1, 1999) and 8972317180 (as of October 1, 1999) is within the scope of either order; Received April 11, 2000.

A-588-807 Industrial Belts and Components and Parts Thereof, whether Cured or Uncured; International Business Machines; whether two models of belts imported by IBM for use in the IBM 3900 and IBM 4000 Advanced Function Printing Systems are within the scope of the order. Received January 28, 2000.

A-588-843 Certain Stainless Steel Wire Rod; Ishar Bright Steel, Ltd.; whether stainless steel bar produced in the United Arab Emirates from stainless steel wire rod imported from Japan is within the scope. Requested December 22, 1998.

People's Republic of China

A-570-504 Petroleum Wax Candles; American Greetings Corporation; whether eight decorated tapers and two decorated pillars are holiday novelty candles, or candles shaped as identifiable objects and, thus, excluded from the order. Requested February 7, 2000.

A-570-504 Petroleum Wax Candles; Endar Corporation; whether three “round Chinese lantern” candles, one silver-studded votive, and one “candy cane floater” are candles shaped as identifiable objects or holiday novelty candles and, thus, excluded from the order. Requested March 27, 2000.

A-570-803 Heavy Forged Hand Tools; Tianjin Machinery Import/Export Corporation; whether Tianjin's Pulaski Tools are outside the scope of the order. Requested July 23, 1999.

A-570-803 Heavy Forged Hand Tools; SMC Pacific Tools, Inc. and Olympia Industrial Inc.; whether certain pry bars are within the scope. Requested October 27, 1999.

A-570-827 Certain Cased Pencils; Dollar General Corporation; whether two stationery sets with pencils are within the scope. Requested December 22, 1999.

A-570-851 Certain Preserved Mushrooms; Mei Wei Food Industry Co., Ltd., Tak Fat Trading Co., Leung Mi International, Tak Yeun Corp., and Genex International Corp; marinated or acidified mushrooms with an acetic acid content under 0.5 percent preliminarily found to be within the scope; final decision pending.

Russian Federation

A-821-802 Antidumping Suspension Agreement on Uranium; USEC Inc. and its subsidiary, United States Enrichment Corporation; whether enriched uranium located in Kazakhstan at the time of the dissolution of the Soviet Union is within the scope. Requested August 6, 1999.

Spain

A-469-807, C-469-004 Certain Stainless Steel Wire Rod; Ishar Bright Steel, Ltd.; whether stainless steel bar produced in the United Arab Emirates from stainless steel wire rod imported from Spain is within the scope. Requested December 22, 1998.

Taiwan

A-583-828 Certain Stainless Steel Wire Rod; Ishar Bright Steel, Ltd.; whether stainless steel bar produced in the United Arab Emirates from stainless steel wire rod imported from Taiwan is within the scope. Requested December 22, 1998.

Anticircumvention Inquiries Pending as of March 31, 2000

Canada

A-122-823 Cut-to-Length Carbon Steel Plate; Kentucky Electric Steel Company; whether imports of boron-added grader blade and draft key steel, falling within the physical dimensions outlined in the scope of the order, are circumventing the order. Initiated May 28, 1998.¹

¹ The Department was preliminarily enjoined from proceeding with this inquiry in Co-Steel Lasco and Gerdau MRM Steel v. United States, Ct. No. 98-08-02684 (Ct. Int'l Trade); however, a final and conclusive decision on the merits of this case has not been issued.

Japan

A-588-824 Corrosion-Resistant Carbon Steel Flat Products; USS-Posco Industries; whether imports of boron-added hot-dipped and electrolytic corrosion-resistant carbon steel sheet, falling within the physical dimensions outlined in the scope of the order, are circumventing the order. Initiated October 30, 1998.²

² The Department was enjoined from proceeding with this inquiry in Nippon Steel v. United States, Ct. No. 98-10-03102 (Ct. Int'l Trade); however, the case is presently pending before the Court of Appeals for the Federal Circuit, No. 99-1379, 1386 (Fed. Cir.).

Interested parties are invited to comment on the completeness of this list of pending scope inquiries. Any comments should be submitted to the Deputy Assistant Secretary for AD/CVD Enforcement Group III, Import Administration, International Trade Administration, 14th Street and Constitution Avenue NW, Room 1870, Washington, DC 20230.

This notice is published in accordance with section 351.225(o) of the Department's regulations.

Dated: June 28, 2000.
Joseph A. Spetrini,
Deputy Assistant Secretary, Enforcement Group III.

[FR Doc. 00-17245 Filed 7-6-00; 8:45 am]

BILLING CODE 3510-DS-P